DEPARTMENT OF TRANSPORTATION

Federal Aviation Administration

14 CFR Part 95

[Docket No. 31228; Amdt. No. 543]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, January 3, 2019.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29 Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on November 30, 2018.
Rick Domingo,
Executive Director, Flight Standards Service.

Adoption of the Amendment

Accordingly, pursuant to the authority delegated to me by the Administrator, part 95 of the Federal Aviation Regulations (14 CFR part 95) is amended as follows effective at 0901 UTC, January 3, 2019.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 543 Effective Date January 3, 2019]
From | To | MEA | MAA
§ 95.3000 Low Altitude RNAV Routes
§ 95.3227 RNAV Route T227 Is Amended To Read in Part
JANNT, AK WP | BAERE, AK WP | 7500 | 17500
*2900—MOCA.
BAERE, AK WP | ALEUT, AK WP | 7500 | 17500
*3300—MOCA.
§ 95.3705 RNAV Route T705 Is Amended To Read in Part
PBERG, NY WP | *LATTS, NY WP | 3900 | 17500
*3700—MCA LATTS, NY WP, S BND.
§ 95.3781 RNAV Route T781 Is Amended To Read in Part
Flint, MI VORTAC | KATTY, MI FIX | 3000 | 17500
*2300—MOCA.

From | To | MEA
§ 95.6001 Victor Routes—U.S.
§ 95.6007 VOR Federal Airway V7 Is Amended To Read in Part
CHICAGO HEIGHTS, IL VORTAC | *LAIRD, IL FIX | 3500
*2700—MCA LAIRD, IL FIX, S BND.
PETTY, WI FIX | PROOT, WI FIX | #
#UNUSABLE
PROOT, WI FIX | FALLS, WI VOR/DME | #
#UNUSABLE.
§ 95.6012 VOR Federal Airway V12 Is Amended To Read in Part
BIBLE GROVE, IL VORTAC | WORKE, IL FIX
| SW BND | 2300
| NE BND | 6000
§ 95.6023 VOR Federal Airway V23 Is Amended To Read in Part
RAWER, OR FIX | BATTLE GROUND, WA VORTAC | 4100
§ 95.6072 VOR Federal Airway V72 Is Amended To Delete
BIBLE GROVE, IL VORTAC | MATTOON, IL VOR/DME | 2500
MATTOON, IL VOR/DME | BLOOMINGTON, IL VOR/DME | 2700
§ 95.6097 VOR FEDERAL AIRWAY V97 Is Amended To Delete
*FARMM, IL FIX | JANESVILLE, WI VOR/DME | 2900
*10000—MRA.
Is Amended By Adding
KRENA, IL FIX | JANESVILLE, WI VOR/DME | 2900
Is Amended To Read in Part
CHICAGO HEIGHTS, IL VORTAC | NILES, IL FIX | 3500
Is Amended To Delete
NILES, IL FIX | BEBEE, IL FIX | 3400
§ 95.6112 VOR Federal Airway V112 Is Amended To Read in Part
PITER, OR FIX | *BATTLE GROUND, WA VORTAC | 4400
*5000—MCA BATTLE GROUND, WA VORTAC, E BND.
*6500—MOCA BATTLE GROUND, WA VORTAC | KLICKITAT, OR VOR/DME | *7000
§ 95.6128 VOR Federal Airway V128 Is Amended To Read in Part
SWIFT, WV FIX | BITES, WV FIX
| W BND | 5000
| E BND | 7000
§ 95.6170 VOR Federal Airway V170 Is Amended To Read in Part
RAINE, MI FIX | Pullman, MI VOR/DME | 2400
§ 95.6177 VOR Federal Airway V177 Is Amended To Read in Part
WAUSAU, WI VORTAC | BAITS, WI FIX | #
#UNUSABLE.
BAITS, WI FIX | Hayward, WI VOR/DME | #
#UNUSABLE.
HAYWARD, WI VOR/DME | DULUTH, MN VORTAC | #
#USUABLE.
§ 95.6182 VOR Federal Airway V182 Is Amended To Read in Part
NEWBERG, OR VOR/DME | *BATTLE GROUND, WA VORTAC | 4100
*5000—MCA BATTLE GROUND, WA | VORTAC, E BND
BATTLE GROUND, WA VORTAC | KLICKITAT, OR VOR/DME | *7000
*6500—MOCA.
§ 95.6194 VOR Federal Airway V194 Is Amended To Read in Part
CEDAR CREEK, TX VORTAC | KISER, TX FIX | 2300
§ 95.6210 VOR Federal Airway V210 Is Amended To Read in Part
PIRRO, CA FIX | *POMONA, CA VORTAC | 4500
*10400—MCA POMONA, CA | VORTAC, NE BND
POMONA, CA VORTAC | CALBE, CA FIX
| SW BND | 5700
| NE BND | 10800
MEANT, CA FIX | *APLES, CA FIX | 11800
*9200—MCA APLES, CA | FIX, SW BND
§ 95.6217 VOR Federal Airway V217 Is Amended To Read in Part
*BESIE, IL FIX | BADGER, WI VOR/DME | 2900
*10000—MRA.
Is Amended To Delete
FARM, IL FIX | BESIE, IL FIX | 2500
§ 95.6228 VOR Federal Airway V228 Is Amended To Delete
BESIE, IL FIX | FARM, IL FIX | 2500
§ 95.6310 VOR Federal Airway V310 Is Amended To Read in Part
ROSAR, KY FIX | *HOLSTON MOUNTAIN, TN VORTAC | 6900
*6900—MCA HOLSTON MOUNTAIN, TN | VORTAC, E BND
HOLSTON MOUNTAIN, TN VORTAC | STAIN, TN FIX | 6900
STAIN, TN FIX | *BURCH, NC FIX | 8500
*8500—MCA BURCH, NC | FIX, W BND
§ 95.6316 VOR Federal Airway V316 Is Amended To Read in Part
IRONWOOD, MI VOR/DME | SAWYER, MI VOR/DME | *6000
*3700—MOCA.
§ 95.6394 VOR Federal Airway V394 Is Amended To Read in Part
AHEIM, CA FIX | *POMONA, CA VORTAC | 4000
*10400—MCA POMONA, CA | VORTAC, NE BND
POMONA, CA VORTAC | CALBE, CA FIX
| SW BND | 5700
| NE BND | 10800
MEANT, CA FIX | *APLES, CA FIX | 11800
*9200—MCA APLES, CA | FIX, SW BND
§ 95.6413 VOR Federal Airway V413 Is Amended To Read in Part
EAU CLAIRE, WI VORTAC | RUSSH, WI FIX
| SW BND | *6000
| NE BND | *8000
*2900—MOCA.
§ 95.6422 VOR Federal Airway V422 Is Amended To Read in Part
NILES, IL FIX | Chicago Heights, IL VORTAC | 3500
Is Amended To Delete
BEBEE, IL FIX | *NILES, IL FIX | 3400
*3500—MRA.
*3000—MCA | NILES, IL | FIX, N BND
§ 95.6429 VOR Federal Airway V429 Is Amended To Delete
BIBLE GROVE, IL VORTAC | MATTOON, IL VOR/DME | 2500
MATTOON, IL VOR/DME | CHAMPAIGN, IL VORTAC | 2400
§ 95.6571 VOR Federal Airway V571 Is Amended To Read in Part
LEONA, TX VORTAC | CEDAR CREEK, TX VORTAC | 2300

From | To | MEA | MAA
§ 95.7001 Jet Routes
§ 95.7208 Jet Route J208 Is Amended To Read in Part
ATHENS, GA VOR/DME | LIBERTY, NC VORTAC | # | 45000
#UNUSABLE.

Airway Segment: From | Airway Segment: To | Changeover Points: Distance | Changeover Points: From
§ 95.8003 VOR Federal Airway Changeover Point
V177 Is Amended To Delete Changeover Point
WAUSAU, WI VORTAC | HAYWARD, WI VOR/DME | 59 | WAUSAU
HAYWARD, WI VOR/DME | DULUTH, MN VORTAC | 42 | HAYWARD
V228 Is Amended To Delete Changeover Point
MADISON, WI VORTAC | NORTHBROOK, IL VOR/DME | 56 | MADISON
V316 Is Amended To Modify Changeover Point
IRONWOOD, MI VORTAC | SAWYER, MI VOR/DME | 94 | IRONWOOD

[FR Doc. 2018-27030 Filed 12-13-18; 8:45 am]

BILLING CODE 4910-13-P